ENVIRONMENTAL PROTECTION AGENCY

40 CFR Part 52

[EPA-R05-OAR-2011-0595; FRL-9677-4]

Approval and Promulgation of Implementation Plans; Ohio; Volatile Organic Compound Emission Control Measures for the Cleveland Ozone Nonattainment Area

AGENCY: Environmental Protection Agency (EPA).

ACTION: Proposed rule.

SUMMARY: On June 1, 2011, the Ohio Environmental Protection Agency (Ohio EPA) submitted several volatile organic compound (VOC) rules for approval into its State Implementation Plan (SIP). These rules, which include the source categories covered by the Control Technique Guideline (CTG) documents issued in 2008, as well as several other miscellaneous rule revisions, will help Ohio's effort to attain the 2008 ozone standard. These rules are approvable because they are consistent with the CTG documents issued by EPA in 2008, and satisfy the reasonably available control technology (RACT) requirements of the Clean Air Act (Act).

DATES: Comments must be received on or before June 25, 2012.

ADDRESSES: Submit your comments, identified by Docket ID No. EPA-R05-OAR-2011-0595, by one of the following methods:

• www.regulations.gov: Follow the on-line instructions for submitting comments.

• Email: aburano.douglas@epa.gov.

• Fax: (312) 408-2279.

• Mail: Douglas Aburano, Chief, Attainment Planning and Maintenance Section (AR-18J), U.S. Environmental Protection Agency, 77 West Jackson Boulevard, Chicago, Illinois 60604.

• Hand Delivery: Douglas Aburano, Chief, Attainment Planning and Maintenance Section (AR-18J), U.S. Environmental Protection Agency, 77 West Jackson Boulevard, 18th floor, Chicago, Illinois 60604. Such deliveries are only accepted during the Regional Office's normal hours of operation, and special arrangements should be made for deliveries of boxed information. The Regional Office official hours of business are Monday through Friday, 8:30 a.m. to 4:30 p.m., excluding Federal holidays.

Instructions: Direct your comments to Docket ID No. EPA-R05-OAR-2011-0595. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal at (312) 886-6052 before visiting the Region 5 office.

FOR FURTHER INFORMATION CONTACT: Steven Rosenthal, Environmental Engineer, Attainment Planning & Maintenance Section, Air Programs Branch (AR-18J), U.S. Environmental Protection Agency, Region 5, 77 West Jackson Boulevard, Chicago, Illinois 60604, (312) 886-6052, rosenthal.steven@epa.gov.

SUPPLEMENTARY INFORMATION: Throughout this document whenever “we,” “us,” or “our” is used, we mean EPA. This supplementary information section is arranged as follows:

I. What should I consider as I prepare my comments for EPA?

II. What action is EPA taking today and what is the purpose of this action?

III. What is EPA's analysis of Ohio's submitted VOC rules?

IV. Statutory and Executive Order Reviews

I. What should I consider as I prepare my comments for EPA?

When submitting comments, remember to:

1. Identify the rulemaking by docket number and other identifying information (subject heading, Federal Register date, and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What action is EPA taking today and what is the purpose of this action?

EPA is proposing to approve into the Ohio SIP several new VOC and amended VOC rules under Chapter 3745-21 of the Ohio Administrative Code (OAC). These include new fiberglass boat manufacturing, miscellaneous industrial adhesives, and automobile and light-duty truck assembly coatings rules, which are consistent with the CTGs issued in 2008, as well as revisions to definitions and rules for the control of VOC emissions from stationary sources, storage of volatile organic liquids, industrial cleaning solvents, and flatwood paneling coatings. These VOC rules will help Ohio's effort to attain the 2008 ozone standard.

EPA is also proposing to approve into the Ohio SIP amendments to OAC 3745-72, which contain its Low Reid Vapor Pressure Fuel Requirements, so that it is consistent with EPA requirements regarding special provisions for alcohol blends.

III. What is EPA's analysis of Ohio's submitted VOC rules?

As discussed previously, EPA issued new CTGs in 2008. EPA has reviewed Ohio's new VOC rules for the source categories covered by these CTGs, and proposes to find that those rules covered by the 2008 CTGs are consistent with the control measures, definitions, recordkeeping, and test methods in these CTGs and applicable EPA RACT guidance at www.epa.gov/ttn/naaqs/ozone/ozonetech/#ref. Ohio's revised VOC rules are also consistent with applicable EPA guidance as described above. Therefore EPA is proposing to approve these rules as meeting the RACT requirements in the Act. A brief discussion of these rules follows.

(1) 3745-21-01—Definitions

Revisions to this section primarily consist of new definitions that are needed to support the new and revised rules. These definitions are consistent with EPA RACT guidance and are approvable.

(2) 3745-21-09—Control of Emissions of VOC From Stationary Sources and Perchloroethylene From Dry Cleaning Facilities

The main revisions in this section are the expiration of the control requirements in 3745-21-09 (C), (U), and (HH) for the “Surface coating of automobile and light-duty trucks,” “Surface coating of miscellaneous metal parts and products,” and “Surface coating of automotive/transportation and business machine plastic parts,” when those sources, in the former Cleveland-Akron-Lorain 1997 8-hour ozone nonattainment area (Ashtabula, Cuyahoga, Geauga, Lake, Lorain, Medina, Portage, and Summit Counties) become subject to and comply with the new rules (discussed below) based on the new CTGs. These revisions are approvable because the control requirements in the new CTGs are more appropriate and include more stringent emission limits than the rules being replaced.

Additional requirements for flares have been added to 3745-21-09(JJ), (LL), (UU), (ZZ), and (BBB) for “The Goodyear Tire and Rubber Company,” “The Lubrizol Corporation,” “British Petroleum Company, Toledo Refinery,” “Firestone Synthetic Rubber & Latex Company,” and “BF Goodrich Company Akron Chemical Plant.” An unenforceable numerical emission limit for BF Goodrich's agerite resin D process has been replaced with the appropriate flare control requirements in (DD)(10)(d), as well as the control equipment/flare monitoring requirements in (10)(e), and the requirement in (10)(f) that the control equipment/flare be operated at all times when emissions are vented to it. For the other companies listed above, the flare control requirements in (10)(d) have been enhanced by the addition of the requirements in (10)(e) and (10)(f). The addition of these flare requirements improves the enforceability of the control requirements in 3745-21-09(JJ), (LL), (UU), (ZZ), and (BBB) and they are therefore approvable.

(3) 3745-21-21—Storage of Volatile Organic Liquids in Fixed Roof Tanks and External Floating Roof Tanks

A minor revision was made to (D)(3)(c), which previously referred to the requirements “listed in paragraphs (D)(3)(c)(i) and (D)(3)(c)(ii).” This revision consisted of referring to the “following” requirements instead of the superfluous reference “listed in paragraphs (D)(3)(c)(i) and (D)(3)(c)(ii).” There was no substantive change as a result of this rule revision.

(4) 3745-21-23—Control of VOC Emissions From Industrial Solvent Cleaning Operations

Ohio revised its applicability cutoff in (A)(1)(c) to 3.0 tons VOC emissions per twelve-month rolling period. This cutoff is consistent with the applicability cutoff in several CTGs and is therefore approvable.

Ohio has added alternatives, for manufacturers of coatings, inks or adhesives, to the VOC-content limitations in (C)(1) and the cleaning requirements in (C)(2). These requirements, in (C)(6)(b) are based on the (California) Bay Area Air Quality Management District's rules, which are referenced in EPA's CTG. These requirements apply to cleaning mixing vats, high dispersion mills, grinding mills, tote tanks, and roller mills and consist of four options: (1) The solvent or solvent solution used must either contain less than 1.67 pounds VOC per gallon or have a VOC composite partial vapor pressure of less than or equal to 8 millimeters (mm) of mercury (Hg); (2) several work practices must be implemented, including storing all VOC-containing cleaning materials in closed containers; (3) the emissions from equipment cleaning must be collected and vented to an emission control system with an overall control efficiency of 80 percent or more on a mass basis; or (4) no more than 60 gallons of fresh solvent per month may be used (records of which are required to be kept in (G)((7)), and all VOC-containing cleaning materials must be stored in closed containers. In addition, the owner or operator of a facility engaged in wipe cleaning may not use open containers for the storage of organic compounds to be used for cleaning, or for the storage or disposal of any material impregnated with organic compounds used for cleaning. Records of the volume of fresh solvent used per month, VOC content in pounds of VOC per gallon or VOC composite pressure are required, if applicable to the option chosen for achieving compliance.

Paragraph (J) includes sufficiently detailed monthly recordkeeping requirements for any facility that determines that it is exempt from the requirements of this rule because emissions are less than 3.0 tons per twelve-month rolling period. These cleaning solvent requirements are therefore approvable because they are consistent with EPA guidance and require adequate recordkeeping.

(5) 3745-21-24—Flat Wood Paneling Coatings

Ohio added a paragraph (H) to provide the proper test methods for use when a facility chooses to comply by use of an add-on control device. These test methods are consistent with, and include, EPA test methods and compliance testing requirements.

Paragraph (K) includes sufficiently detailed daily recordkeeping requirements for any facility that determines it is exempt from the requirements of this rule because emissions are less than 15.0 pounds of VOC per day.

The additions to Ohio's flat wood paneling coating rule are therefore approvable.

(6) 3745-21-27—Boat Manufacturing

This new regulation is based on and is consistent with EPA's 2008 CTG for Fiberglass Boat Manufacturing Materials. The control requirements for fiberglass boat manufacturing operations in the former Cleveland-Akron-Lorain 1997 8-hour ozone nonattainment area apply if the combined emissions of VOC from all such operations equal or exceed 2.7 tons per rolling twelve-month period. This rule covers open molding and gel coat operations, resin and gel coat mixing operations, and resin and gel coat application equipment cleaning operations. Emission limits are consistent with the CTG, as are VOC content and vapor pressure limits applicable to cleaning activities associated with fiberglass boat manufacturing.

Subject facilities can comply by using specified monomer VOC content limits (e.g. production resin applied via atomized spray would need to comply with a weighted average monomer VOC content limit of 28 percent by weight) and a non-monomer VOC content limit of 5 percent. An emission averaging option is also available.

The VOC containing cleaning solutions for routine cleaning of application equipment must either be no more than 5 percent VOC, by weight, or the composite vapor pressure must be no more than 0.50 mmHg. Also, mixing containers that are 55 gallons or greater must be covered. Recordkeeping requirements are also specified to establish applicability and compliance with the applicable limits.

This rule is therefore consistent with RACT and is approvable.

(7) 3745-21-28—Miscellaneous Industrial Adhesives and Sealants

This new regulation is based on and is consistent with EPA's 2008 CTG for Miscellaneous Industrial Adhesive Application Operations. The control requirements for miscellaneous industrial adhesive application operations in the former Cleveland-Akron-Lorain 8-hour ozone nonattainment area apply if the combined emissions of VOC from all such operations equal or exceed 3.0 tons per twelve-month rolling period. Subject adhesive application operations must either meet the specific VOC content limitations, depending upon the application or the substrate being bonded (e.g. 0.3 pounds VOC per gallon of adhesive for bonding metal) or use an add-on control system that achieves an overall VOC reduction of at least 85 percent. Specific adhesive application methods (e.g. electrostatic spray) and work practices are required to reduce emissions. Recordkeeping requirements are also specified to establish applicability and compliance with the applicable limits.

This rule is therefore consistent with RACT and is approvable.

(8) 3745-21-29—Control of VOC Emissions From Automobile and Light-Duty Truck Assembly Coating Operations

This new regulation is based on and is consistent with EPA's 2008 CTG for Auto and Light-Duty Truck Assembly Coatings. The control requirements for automobile and light-duty truck assembly coating operations in the former Cleveland-Akron-Lorain 8-hour ozone nonattainment area apply if the combined emissions of VOC from all such operations equal or exceed 3.0 tons per twelve-month rolling period. Specified emission limits, e.g. 12.0 pounds VOC/gallon coating solids deposited for topcoat operations, are consistent with the CTG. As specified in the CTG, compliance with these limits is based on EPA's “Protocol for Determining the Daily VOC Emission Rate of Automobile and Light-Duty Truck Primer-Surfacer and Topcoat Operations.” This testing protocol considers the VOC content limit, the transfer efficiency and the efficiency of add-on control to establish compliance with the applicable emission limit.

Work practices for coating-related activities and cleaning materials, such as storing all VOC-containing coatings, thinners, and coating-related waste materials in closed containers are also required. Appropriate compliance procedures and test methods, as well as sufficient recordkeeping requirements to establish compliance and applicability are also included in this regulation.

This rule is therefore consistent with RACT and is approvable.

(9) 3745-72—Low Reid Vapor Pressure Fuel Requirements

Ohio's amendments to OAC 3745-72, which contain its low Reid vapor pressure fuel requirements, are approvable because they are consistent with EPA requirements regarding special provisions for alcohol blends.

Conclusion

EPA is proposing to approve into the Ohio SIP the new rules for fiberglass boat manufacturing (3745-21-27), miscellaneous industrial adhesives (3745-21-28), and automobile and light-duty truck assembly coatings (3745-21-29), as well as amended rules for definitions (3745-21-01), the control of VOC emissions from stationary sources (3745-21-09), storage of volatile organic liquids (3745-21-21), industrial cleaning solvents (3745-21-23), flat wood paneling coatings (3745-21-24), and low Reid vapor pressure fuel requirements (3745-72).

V. Statutory and Executive Order Reviews

Under the Act, the Administrator is required to approve a SIP submission that complies with the provisions of the Act and applicable Federal regulations. 42 U.S.C. 7410(k); 40 CFR Part 52.02(a). Thus, in reviewing SIP submissions, EPA's role is to approve State choices, provided that they meet the criteria of the Act. Accordingly, this action merely approves state law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Air pollution control, Environmental protection, Intergovernmental relations, Ozone, Reporting and recordkeeping requirements, Volatile organic compounds.

Dated: May 14, 2012.
Susan Hedman,
Regional Administrator, Region 5.

[FR Doc. 2012-12804 Filed 5-24-12; 8:45 am]

BILLING CODE 6560-50-P